DEPARTMENT OF JUSTICE

Notice of Lodging of Consent Decree Under the Clean Water Act

Notice is hereby given that on November 1, 2007, a proposed “Agreement and Order Regarding Modification of the Consent Decree with Respect to TESI” in U.S. v. Acadia Woods Add. #2 Sewer Co.,Civil Action No. 6:98-0687, was lodged with the United States District Court for the Western District of Louisiana.

In this action, the United States sought injunctive relief and civil penalties under the Clean Water Act (“CWA”), 33 U.S.C. 1251 et seq., in connection with sewage treatment plants (“STPs”) in Louisiana owned and operated by Johnson Properties, Inc. On December 21, 2000, the “Consent Decree with Respect to TESI” was entered (“the 2000 Consent Decree”). On December 23, 2000, Total Environmental Solutions, Inc. (“TESI”) purchased the STPs at issue in the civil action. The 2000 Consent Decree provided a plan and schedule whereby TESI would bring the STPs it purchased into compliance with the CWA. The proposed Agreement and Order Regarding Modification of the Consent Decree with Respect to TESI modifies the plan and schedule whereby TESI would bring the STPs it purchased into compliance with the CWA. The proposed Agreement and Order Regarding Modification of the Consent Decree with Respect to TESI also modifies the stipulated penalties provisions of the 2000 Consent Decree.

The Department of Justice will receive for a period of thirty (30) days from the date of this publication comments relating to the Agreement and Order Regarding Modification of the Consent Decree with Respect to TESI. Comments should be addressed to the Assistant Attorney General, Environment and Natural Resources Division, and either e-mailed to pubcomment-ees.enrd@usdoj.gov or mailed to P.O. Box 7611, U.S. Department of Justice, Washington, DC 20044-7611, and should refer to U.S. v. Acadia Woods Add. #2 Sewer Co., D.J. Ref. 90-5-1-1-4375.

The Agreement and Order Regarding Modification of the Consent Decree with Respect to TESI may be examined at the Office of the United States Attorney, Western District of Louisiana, 800 Lafayette Street, Suite 2200, Lafayette, LA 70501, and at U.S. EPS Region, Region 6, 1445 Ross Avenue, Dallas, TX 75202. During the public comment period, the Agreement and Order Regarding Modification of the Consent Decree with Respect to TESI may also be examined on the following Department of Justice Web site: http://www.usdoj.gov/enrd/Consent_Decrees.html. A copy of the Agreement and Order Regarding Modification of the Consent Decree with Respect to TESI may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.75 (25 cents per page reproduction cost). If the request is made by e-mail or fax, please forward a check in the appropriate amount to the Consent Decree Library at the stated address. The check should be payable to the “United States Treasury.”

Thomas A. Mariani, Jr.,
Assistant Chief, Environmental Enforcement Section, Environment and Natural Resources Division.

[FR Doc. 07-5580 Filed 11-7-07; 8:45 am]

BILLING CODE 4410-15-M